FEDERAL ELECTION COMMISSION

11 CFR Part 100

[Notice 2014-09]

Rulemaking Petition: Federal Office

AGENCY: Federal Election Commission.

ACTION: Petition for Rulemaking: Notice of Availability.

SUMMARY: On August 28, 2014, the Commission received a Petition for Rulemaking from National Convention PBC. The petition asks the Commission to amend 11 CFR 100.4 to include delegates to a constitutional convention in the definition of “federal office.” The Commission seeks comments on this petition.

DATES: Statements in support of or in opposition to the petition must be submitted on or before November 3, 2014.

ADDRESSES: All comments must be in writing. Comments may be submitted electronically via the Commission's Web site at http://www.fec.gov/fosers/. Commenters are encouraged to submit comments electronically to ensure timely receipt and consideration. Alternatively, comments may be submitted in paper form. Paper comments must be sent to the Federal Election Commission, Attn.: Adav Noti, Acting Associate General Counsel, 999 E Street NW., Washington, DC 20463. Each comment must include the full name and postal service address of the commenter, and of each commenter if filed jointly, or it will not be considered. The Commission will post comments on its Web site at the conclusion of the comment period.

FOR FURTHER INFORMATION CONTACT: Ms. Emma K. Lewis, Office of General Counsel, 999 E Street NW., Washington, DC 20463, (202) 694-1650 or (800) 424-9530.

SUPPLEMENTARY INFORMATION: On August 28, 2014, the Commission received a Petition for Rulemaking from National Convention PBC regarding the Commission's regulation defining “federal office,” 11 CFR 100.4. The regulation provides that “Federal office means the office of President or Vice President of the United States, Senator or Representative in, or Delegate or Resident Commissioner to, the Congress of the United States.” The petition asks the Commission to amend 11 CFR 100.4 to add “a Delegate to a constitutional convention for proposing amendments to the Constitution of the United States.” The Commission seeks comments on the petition.

Copies of the Petition for Rulemaking are available for public inspection on the Commission's Web site at http://www.fec.gov/fosers/ and in the Commission's Public Records Office, 999 E Street NW., Washington, DC 20463, Monday through Friday between the hours of 9:00 a.m. and 5:00 p.m. Interested persons may also obtain a copy of the petition by dialing the Commission's Faxline service at (202) 501-3413 and following its instructions, at any time of the day and week. Request document #274.

Consideration of the merits of the petition will be deferred until the close of the comment period. If the Commission decides that the petition has merit, it may begin a rulemaking proceeding. Any subsequent action taken by the Commission will be announced in the Federal Register.

On behalf of the Commission.
Lee E. Goodman,
Chairman, Federal Election Commission.

[FR Doc. 2014-23443 Filed 10-1-14; 8:45 am]

BILLING CODE 6715-01-P